DEPARTMENT OF JUSTICE

Antitrust Division

Notice Pursuant to the National Cooperative Research and Production Act of 1993—ODVA, Inc.

Notice is hereby given that, on April 14, 2015, pursuant to section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Bedrock Automation Platforms, Inc., San Jose, CA; Control Technology Inc., Knoxville, TN; High Grade Controls Corporation, Sudbury, Ontario, CANADA; Jenny Science AG, Rain, SWITZERLAND; PCN Technology, Inc., San Diego, CA; Prozess Technologie, Inc., St. Louis, MO; and Welding Technology Corp., Farmington Hills, MI, have been added as parties to this venture.

Also, Conxall Corporation Inc., Chicago, IL; FieldServer Technologies (Div Sierra Monitor Corporation), Milpitas, CA; New Age Micro, Mansfield, MA; Power Electronics S.L., Paterna, SPAIN, UNIPULSE Corporation, Koshigaya City, JAPAN; and Warwick Instruments, London, UNITED KINGDOM, have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on January 20, 2015. A notice was published in the Federal Register pursuant to section 6(b) of the Act on February 17, 2015 (80 FR 8348).

Patricia A. Brink,
Director of Civil Enforcement, Antitrust Division.

[FR Doc. 2015-11007 Filed 5-6-15; 8:45 am]

BILLING CODE P